INTERNATIONAL TRADE COMMISSION

[Inv. No. 337-TA-642]

In the Matter of Certain Catheters, Consoles and Other Apparatus for Cryosurgery, and Components Thereof; Correction to the Notice of Investigation

AGENCY: U.S. International Trade Commission.

ACTION: Correcting amendment.

SUMMARY: This amendment corrects a typographical error in the notice of investigation issued by the Commission on March 27, 2008. This notice corrects a typographical error in the title of the investigation. Therefore, the Commission is amending the notice to reflect the change in the title of the investigation, particularly, the word “catheter” to “catheters.”

DATES: Effective on April 4, 2008.

FOR FURTHER INFORMATION CONTACT: Marilyn R. Abbott, Secretary to the Commission, (202) 205-2000 (e-mail: marilyn.abbott@usitc.gov).

Issued: April 1, 2008.
By order of the Commission.
Marilyn R. Abbott,
Secretary to the Commission.

[FR Doc. E8-6998 Filed 4-3-08; 8:45 am]

BILLING CODE 7020-02-P